DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Awareness and application of long-term monitoring data in the Pacific Islands.

OMB Control Number: 0648-xxxx.

Form Number(s): None.

Type of Request: Regular (request for a new information collection).

Number of Respondents: 160.

Average Hours per Response: Surveys, 30 minutes; focus groups, 90 minutes.

Burden Hours: 170.

Needs and Uses: This request is for a new collection of information. The objective of the study is to understand the types of available socioeconomic data, types of data used and data gaps identified, regarding coastal conservation management, fisheries and other marine conservation management, and efforts (including opportunities and barriers) in integrating biophysical and socioeconomic data. The voluntary survey and interviews will assess the degree to which the available socioeconomic data are being used and have met the needs of the different natural resource management and conservation programs in the U.S. jurisdictions and affiliations in the Pacific island region. Results of the survey and interviews are expected to assist in guiding any future modifications of socioeconomic and biophysical indicators, data collecting tools, approaches, and communications of results.

Affected Public: Individuals or households; not for profit institutions; state, federal and tribal governments; Federal government.

Frequency: One time in three years.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 18, 2018.
Sarah Brabson,
NOAA PRA Clearance Officer.

[FR Doc. 2018-27627 Filed 12-20-18; 8:45 am]

BILLING CODE 3510-22-P